DEPARTMENT OF HEALTH AND HUMAN SERVICES

Centers for Disease Control and Prevention

State Implementation Projects for Preventing Secondary Conditions and Promoting the Health of People With Disabilities

Announcement Type: New.

Funding Opportunity Number: RFA 05007.

Catalog of Federal Domestic Assistance Number: 93.184.

Key Dates: Letter of Intent Deadline (LOI): December 3, 2004.

Application Deadline: January 3, 2005.

Executive Summary: The State capacity cooperative agreements are providing financial assistance to: (1) Establish and/or sustain State offices for preventing secondary conditions and promoting the health of people with disabilities as a State public health priority, and serve as a technical assistance (TA) resource and statewide focus for the prevention of secondary conditions; (2) support an advisory function to coordinate and provide policy and program direction guidance in the State; (3) develop and/or implement a State strategic plan or policy instrument for health promotion for persons with disabilities; (4) establish and implement partnerships with universities or state health departments or other state agencies to support and complement project activities; (5) maintain and refine prescribed public health surveillance or survey activities related to disability and/or secondary conditions in order to implement prevention efforts and program evaluation activities; (6) provide TA to communities; and (7) promote education and health promotion programs for persons with disabilities, conduct training of health professionals, and facilitate access to services for persons with disabilities.

I. Funding Opportunity Description

Authority: This program is authorized under Sections 311, 317(k)(2), and 317C of the Public Health Service Act, (42 U.S.C. 243, 247b(k)(2), and 247b-4) as amended.

Purpose: The Centers for Disease Control and Prevention (CDC) announces the availability of fiscal year (FY) 2005 funds for cooperative agreements for State implementation projects for preventing secondary conditions and promoting the health of persons with disabilities. This program addresses the “Healthy People 2010” focus area(s) of Disability and Secondary Conditions.

The purpose of this program is to support States in preventing secondary conditions in persons with disabilities and in implementing effective health promotion and wellness programs for persons with disabilities. This announcement is comprised of two levels of cooperative agreements:

Level II—State Implementation Projects

Level III—State Infrastructure Development Projects

Measurable outcomes of the program will be in alignment with one (or more) of the following performance goal(s) for the National Center on Birth Defects and Developmental Disabilities: Improve the health and quality of life of Americans with disabilities.

Activities: Activities for Levels II and III: Note that items (a) through (e) relate to activities for both Level II and III State applicants. Items (f) and (g) below relate only to Level II State applicants.

(a) Establish the organizational location and focus for the project within the applicant agency and engage key collaborators (e.g., disability service organizations, advocacy groups, universities) in the design and attainment of program goals and objectives.

(b) Expand or develop an advisory function comprised of key partners representing the disability community. The advisory group will contribute to the policy and planning functions of the applicant. At least 30 percent of the advisory membership must have a disabling condition.

(c) Collect and analyze data using survey questions in the Behavioral Risk Factor Surveillance System (BRFSS) or other survey instruments.

(d) Investigate and document the process (to be or already) established of gaining access to or obtaining information from administrative data within the State to plan and implement activities to prevent secondary conditions and improve the health of people with disabilities to which the data relate.

(e) Disseminate health promotion information through diverse and innovative marketing plans.

(f) Plan, implement and evaluate over the project period health promotion interventions related to Chapter 6 objectives in Healthy People 2010 or the leading health indicators for people with disabilities.

(g) Promote and help develop strategic planning instruments that will influence State-level public health and health promotion activities such as Healthy People 2010 objectives.

In a cooperative agreement, CDC staff is substantially involved in the program activities, above and beyond routine grant monitoring.

CDC Activities for this program are as follows:

• Provide scientific and programmatic TA as requested or indicated in the planning and conduct of disability data collection, communications, and health promotion activities.

• Provide a point of referral and coordination for State, regional and/or national data pertinent to the disabling process.

• Provide assistance to States in regard to BRFSS, or other survey-based sources of data.

• Facilitate coordination with other federal statistical research and data resources.

• Assist State projects in their development of program evaluation measures and processes.

II. Award Information

Type of Award: Cooperative Agreement. CDC involvement in this program is listed in the Activities Section above.

Fiscal Year Funds: 2005.

Approximate Total Funding: $2,500,000. (This amount is an estimate, and is subject to availability of funds.)

Approximate Number of Awards: 9-11.

Approximate Average Award: $280,000 for Level II; $125,000 for Level III. (These amounts are for the first 12-month budget period, and includes both direct and indirect costs.)

Floor of Award Range: $175,000 for Level II; $125,000 for Level III.

Ceiling of Award Range: $360,000 for Level II; $150,000 for Level III.

Anticipated Award Date: April 1, 2005.

Budget Period Length: 12 months.

Project Period Length: Two years.

Level II: CDC anticipates making up to 7 awards for projects which will be designated as Level II states. Funding constraints dictate that no more than one of the eligible states will receive an award at the $360,000 level. The average award for remaining states eligible as a Level II applicant will be $280,000. Requests for Level II awards in excess of $360,000 will be considered as non-responsive and will be returned to the applicant. The major criteria for Level II awards will be that intervention programs for persons with disabilities are established and being implemented within the agency jurisdiction and constituency served.

Level III: CDC anticipates making up to 4 awards for projects which will be designated as Level III states. It is expected that Level III awards will average $125,000 with no award to be made in excess of $150,000. Requests for Level III awards in excess of $150,000 will be considered as non-responsive and will be returned to the applicant. Funding for Level III projects is designed to develop State infrastructure, and short-term implementation of intervention activities is not required.

Throughout the project period, CDC's commitment to continuation of awards will be conditioned on the availability of funds, evidence of satisfactory progress by the recipient (as documented in required reports), and the determination that continued funding is in the best interest of the Federal Government.

III. Eligibility Information

III.1. Eligible Applicants

Assistance will be provided to the health departments of States or their bona fide agents or designees, including the District of Columbia, the Commonwealth of Puerto Rico, the Virgin Islands, the Commonwealth of the Northern Mariana Islands, American Samoa, Guam, federally recognized Indian tribal governments, the Federated States of Micronesia, the Republic of the Marshall Islands, and the Republic of Palau.

Eligibility is also extended to agencies and organizations other than the official health department. In those cases, these entities must provide written concurrence from that health agency and describe the proposed collaborative relationship. Under that circumstance, the role of the official State health agency must be shown to be complementary, collaborative, and demonstrate clearly defined programmatic commitments and obligations.

Only one application from each State or Territory may be submitted. The agency determined to be the applicant for the State may apply for more than one Level (i.e. Level II or Level III) of funding under the eligibility requirements for each. Once that agency is determined, no other agency within that State can submit an application for any other Level of funding. However, a complete and separate application must be submitted from that same applicant agency/entity based on the program requirements and evaluation criteria for that component (Level) of this announcement. Only one award will be issued per State.

States are considered the most appropriate applicants since the national goals of this program include developing capacity in all States and their delivery systems to monitor, characterize, and improve the health of people with disabilities and prevent secondary conditions.

Two levels of cooperative agreements will be awarded:

Level II: Eligible applicants for Level II funding are States currently funded under CDC PA 02007, State Implementation Projects for Preventing Secondary Conditions and Promoting the Health of People with Disabilities. Eligible states include Arkansas, California, Illinois, Massachusetts, Montana, New Jersey, Oregon, Rhode Island, Vermont, and Virginia. In addition, eligible applicants include the District of Columbia, all States, federally recognized Indian Tribes and United States Territories.

To be eligible, applicants for Level II must also provide:

(a) The State Plan for Disability and Health. The Plan can be in final form or in the process of final review.

(b) An established and functioning disability and health advisory component of which at least 30 percent of the members are people with disabilities. The advisory group contributes to the policy and planning functions of the applicant. A listing of the advisory committee membership with their areas of expertise and interest is to be provided and certified by the committee/council chairperson, with an indication only as to the number of persons with disabilities within that group.

A copy of the State Plan and the composition and function statement of the Advisory Council must be provided as attachments to the application.

Level III: Eligible applicants for Level III funding are the District of Columbia, all States, federally recognized Indian Tribes and United States Territories regardless of their current CDC Disability and Health Program funding status.

CDC will conduct a conference call November 16, 2004 with prospective applicants to answer questions regarding this announcement. If you wish to participate, contact by e-mail the official noted for Program TA in the “Agency Contacts” section of this announcement (dbetts@cdc.gov). You will be informed by return e-mail as to the time, telephone number, and passcode for that call. You are encouraged to provide advance questions that will be part of the general discussion during the call.

III.2. Cost Sharing or Matching

Matching funds are not required for this program.

III.3. Other

If you request a funding amount greater than the ceiling of the award range, your application will be considered non-responsive, and will not be entered into the review process. You will be notified that your application did not meet the submission requirements.

Special Requirements:

If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(3) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIMS) staff at: 770-488-2700. Application forms can be mailed to you.

IV.2. Content and Form of Submission

Letter of Intent (LOI): A non-binding letter of intent is requested from prospective applicants. The letter should not exceed one page. It should identify the announcement number, the proposed project director, and denote whether funding Level II or III is being proposed. This letter will allow CDC to determine the amount of interest in the announcement, to plan the review more efficiently, and to ensure that each applicant receives timely and relevant information prior to the application submission date. Your LOI must be written in the following format:

• Maximum number of pages: One

• Font size: 12-point unreduced

• Single spaced

• Paper size: 8.5 by 11 inches

• Page margin size: One inch

• Printed only on one side of page

• Written in plain language, avoid jargon

Application: You must submit a project narrative with your application forms. The narrative must be submitted in the following format:

• Maximum number of pages: 35 pages if applying for Level II; 25 pages if applying for Level III. If your narrative exceeds the page limit, only the first pages which are within the page limit will be reviewed.

• Font size: 12-14 point unreduced

• Double spaced

• Paper size: 8.5 by 11 inches

• Page margin size: One inch

• Printed only on one side of page

• Held together only by rubber bands or metal clips; not bound in any other way

• Attachments to the application should be held to a minimum in keeping to those items referenced or required by this Announcement. The attachments do not count toward the page application limit for that funding level

Your narrative should address activities to be conducted over the entire project period. Level II and Level III applicants must include the following items in the order listed:

1. Background and Need:

a. Describe the current status of disability and health programs in the state, and describe your understanding of the need for this program in the state. Identify the extent of the problem, available services and support resources, at-risk groups, knowledge gaps, and the use of this award in meeting such needs. Provide the data sources that document the need for the program.

b. Provide justification for emphasizing select populations or the sub-group of disabling conditions to be targeted by the applicant. Provide references for any studies or sources from which this information was obtained.

2. Collaborations:

a. Discuss the collaborations proposed with principal partners in the conduct of the project, such as a formal university or state agency alliance that will have an impact on the capacity of the State to mount or improve efforts in health promotion and the prevention of secondary conditions. Provide letters of support describing the nature of each collaboration, and the extent of the collaborative commitment in the scope of work and human and financial resources.

b. Describe progress in developing or implementing a formal State Plan for the prevention of secondary conditions and promoting the health of people with disabilities, and describe the role of a new or existing advisory function to aid in that effort and in other assigned responsibilities.

3. Epidemiologic Capacity:

a. Furnish descriptions of the epidemiologic capacity structure in place or proposed to coordinate and promote data collection and analysis including the BRFSS, other state data sources, selected administrative data sets, and those in conjunction with identified partners.

b. Describe how the university or state agency partnership or collaboration with the state BRFSS Coordinator or other agencies has or will be engaged to facilitate epidemiologic excellence. Provide data from the BRFSS, other state sources, or selected administrative data describing both the magnitude of disability, and the risk and protective factors related to the onset and progress of secondary conditions.

c. Describe how data will, or is being used, for policy development and planning.

4. Program Work Plan:

a. Provide measurable and time-phased goals and objectives for the project period. Objectives should be outcome oriented as much as possible, rather than focusing on processes or outputs. Provide baselines for each objective. The work plan should include the goal of defining the burden of disabilities.

b. Describe proposed activities that will lead to the achievement of the stated goals and objectives. Activities may include the following:

• Conducting the BRFSS survey and analyzing the data

• Initiating or expanding strategic partnerships with specific activities identified

• Providing TA to communities

• Promoting education and health promotion programs for persons with disabilities

• Conducting training of health professionals

• Facilitating access to services for persons with disabilities

5. Evaluation Plan:Discuss how the project will measure the outcomes of proposed targeted activities (e.g., increases in public awareness, knowledge, behavior, and the overall benefits of State Planning and advisory activities). Include a description of the evaluation design, methods, partners, and processes to be followed for conducting program evaluation.

6. Management/Staffing Plan:

a. Provide a description of the proposed staffing for the project, and the plan to expedite filling of all positions. The plan must include the appointment of a full time program manager/coordinator.

b. Discuss the responsibilities of individual staff members including the level of effort and time allocation for each project objective by staff position.

c. Describe plans for on-going management and operation of the project in the event of unexpected vacancies, hiring restrictions, or difficulty in recruiting for key positions.

d. Describe how the integration of disability and health functions as an integral component of applicant/health agency services and operations will be achieved.

e. Present a graphic flowchart (i.e., Gantt chart) denoting time interval performance expectations over the first budget year.

7. Budget and Narrative Justification: Provide a detailed line-item budget and narrative justification for all operating expenses consistent with and clearly related to the proposed objectives and planned activities.

Additional information may be included in the application appendices. The appendices will not be counted toward the narrative page limit. This additional information includes:

• Curriculum Vitaes

• Resumes

• Organizational Charts

• Letters of Support

• Graphic workplans

• State plans for disability and health (Level II only)

• Listing of Advisory Committee membership (Level II only)

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: December 3, 2004.

CDC requests that you send an LOI if you intend to apply for this program. Although the LOI is not required, not binding, and does not enter into the review of your subsequent application, the LOI will be used to gauge the level of interest in this program, and to allow CDC to plan the application review.

Application Deadline Date: January 3, 2005.

Explanation of Deadlines: Applications must be received in the CDC Procurement and Grants Office by 4 p.m. Eastern Time on the deadline date. If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

CDC will not notify you upon receipt of your submission. If you have a question about the receipt of your LOI or application, first contact your courier. If you still have a question, contact the PGO-TIMS staff at: 770-488-2700. Before calling, please wait two to three days after the submission deadline. This will allow time for submissions to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Reimbursement of pre-award costs is not allowed.

• Funds may not be used for construction.

• Funds may not be used to supplant State, local, or other applicant funds for the purpose of this cooperative agreement.

• Funds may not be used to lease or purchase space or facilities.

• Funds may not be used for patient care.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or e-mail to: Donald Betts, CDC, NCBDDD, 1600 Clifton Road, MS E 88, Atlanta, GA 30333, 404-498-3957, 404-498-3060, dbetts@cdc.gov.

Application Submission Address: Submit the original and two hard copies of your application by mail or express delivery service to: Technical Information Management Section, CDC Procurement and Grants Office, 2920 Brandywine Road, Atlanta, GA 30341.

Applications may not be submitted electronically at this time.

V. Application Review Information

V.1. Criteria

Level II and Level III applicants will be evaluated individually against the following criteria by an independent review group appointed by CDC:

1. Program Work Plan: (20 Points)

a. The extent to which the formal work plan includes a clear and concise presentation of project goals and objectives which are specific, measurable, achievable, and time-referenced.

b. The extent to which the applicant effectively documents its plan to provide TA, education and training, and health promotion programs.

c. The degree to which the applicant has met the CDC Policy requirements regarding the inclusion of women, ethnic, and racial groups in proposed research. This includes:

(1) The proposed justification when representation is limited or absent;

(2) A statement as to whether the design of the study is adequate to measure differences when warranted; and

(3) A statement as to whether the plans for recruitment and outreach for study participants include the process of establishing partnerships with community(ies) and recognition of mutual benefits.

2. Evidence of Collaboration: (20 Points)

a. The extent to which the proposed collaborations are well documented with letters of commitment conveying specific indications as to the level of involvement and material effort to be provided in support of project objectives.

b. The extent to which the applicant adequately describes the proposed or existing advisory function, including evidence of representation of persons with disabilities and their role and capacity to influence State-level policy.

c. The extent to which the applicant presents evidence of strong partnerships between the state health department, universities, and community-based organizations, and describes how these collaborations will result in successful infrastructure development.

d. The extent to which the proposed approach demonstrates an effective process to develop and publish a State strategic plan with a Healthy People 2010 emphasis, and/or policy directive for the prevention of secondary conditions as a precursor to the development of the State Plan.

3. Epidemiologic Capacity: (20 Points)

a. The extent to which the application conveys the epidemiologic capacity and structure in place to coordinate and facilitate disability-related data collection, analysis, interpretation, and dissemination.

b. The extent to which the applicant adequately describes how it will conduct the BRFSS, access other State disability information sources related to the population of interest such as administrative data sets; and how such data is currently, or will be utilized.

4. Program Evaluation: (20 Points)

a. The extent to which the applicant presents an appropriate and viable plan for the overall evaluation of the project; including the design, methods (quantitative methods as well as qualitative approaches such as focus groups), partners, and processes to be followed for conducting project evaluation.

b. The extent to which the applicant adequately outlines the methods and process by which it will self-evaluate its performance towards meeting all specified time-phased objectives.

5. Evidence of Need and Understanding of the Problem: (10 Points)

a. The extent to which the applicant provides an adequate description and understanding of the magnitude of disabilities showing evidence (as available) of estimates of prevalence, demographic indicators, severity, effect on families and caregivers, and associated costs.

b. The degree to which the applicant provides a suitable description of the extent of current activities related to disability and health, including those addressing the prevention of secondary conditions within the State.

6. Management/Staffing Plan: (10 Points)

a. The extent to which the applicant provides adequate descriptions of key staff responsibilities addressing proposed major activities.

b. The extent to which the organizational placement of the project assures optimal visibility and influence based on evidence provided by applicant agency leadership.

c. The extent to which the applicant addresses how it will assure and achieve integration of disability and health functions as an integral component of applicant/health agency services and operations.

7. Budget Justification: (Not Scored)

The extent to which the proposed budget is reasonable, related to the proposed objectives and activities.

8. Human Subjects if Applicable: (Not Scored)

The extent to which the applicant complies with the Department of Health and Human Services Regulations (45 CFR Part 46) regarding the protection of human subjects.

V.2. Review and Selection Process

Applications will be reviewed for completeness by the Procurement and Grants Office (PGO) staff, and for responsiveness by the National Center on Birth Defects and Developmental Disabilities (NCBDDD). Incomplete applications and applications that are non-responsive to the eligibility criteria will not advance through the review process. Applicants will be notified that their application did not meet submission requirements.

An objective review panel appointed by CDC will evaluate complete and responsive applications according to the criteria listed in the “V.1. Criteria” section above. Members of the objective review panel will be appointed in accordance with Department of Health and Human Services policy.

Applications will be funded in order by score and rank determined by the review panel. In addition, the following factors may affect the funding decission: maintaining geographic diversity, and preference to applicants funded in a previous project period.

CDC will provide justification for any decision to fund out of rank order.

V.3. Anticipated Announcement and Award Dates

It is anticipated that awards will be announced on March 15, 2005.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Parts 74 and 92

For more information on the Code of Federal Regulations, see the National Archives and Records Administration at the following Internet address: http://www.access.gpo.gov/nara/cfr/cfr-table-search.html.

The following additional requirements apply to this project:

• AR-1 Human Subjects Requirements.

• AR-2 Requirement for Inclusion of Women and Racial Minorities in Research.

• AR-7 Executive Order 12372.

• AR-9 Paperwork Reduction Act Requirements.

• AR-10 Smoke-Free Workplace Requirements.

• AR-11 Healthy People 2010.

• AR-12 Lobbying Restrictions.

• AR-22 Research Integrity.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report no more than 90 days after the end of the budget period.

3. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program TA, contact: Donald Betts, Lead Public Health Analyst, CDC, NCBDDD, 1600 Clifton Road, NE (MS E 88), Telephone: 404-498-3957, E-mail: dbetts@cdc.gov.

For financial, grants management, or budget assistance, contact:

Gary Teague, Grants Management Specialist, CDC Procurement and Grants Office, 2920 Brandywine Road, Atlanta, GA 30341, Telephone: 770-488-1981, E-mail: GTeague@cdc.gov.

VIII. Other Information

This and other CDC funding opportunity announcements can be found on the CDC Web site, Internet address: http://www.cdc.gov. Click on “Funding” then “Grants and Cooperative Agreements.”

Dated: October 28, 2004.
William P. Nichols,
Acting Director, Procurement and Grants Office, Centers for Disease Control and Prevention.

[FR Doc. 04-24514 Filed 11-2-04; 8:45 am]

BILLING CODE 4163-18-P